DEPARTMENT OF ENERGY

Federal Energy Regulatory Commission

Sunshine Act Meeting

The following notice of meeting is published pursuant to section 3(a) of the government in the Sunshine Act (Pub. L. 94-409), 5 U.S.C. 552b:

AGENCY HOLDING MEETING: Federal Energy Regulatory Commission.

DATE AND TIME: July 19, 2012, 10:00 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

983RD—MEETING

REGULAR MEETING

July 19, 2012, 10:00 a.m.

Item No. | Docket No. | Company
ADMINISTRATIVE
A-1 | AD02-1-000 | Agency Business Matters.
A-2 | AD02-7-000 | Customer Matters, Reliability, Security and Market Operations.
ELECTRIC
E-1 | ER12-1265-000, ER12-1265-001, ER09-1049-005 | Midwest Independent Transmission System Operator, Inc.
E-2 | ER12-1266-000, ER12-1266-001, ER11-4337-001 | Midwest Independent Transmission System Operator, Inc.
E-3 | OMITTED |
E-4 | AD12-9-000, AD11-11-000 | Allocation of Capacity on New Merchant Transmission Projects and New Cost-Based, Participant-Funded Transmission Projects, Priority Rights to New Participant-Funded Transmission.
E-5 | NP11-238-000 | North American Electric Reliability Corporation.
E-6 | RM12-9-000 | Regional Reliability Standard PRC-006-SERC-01—Automatic Underfrequency Load Shedding Requirements.
E-7 | EL12-19-001 | FirstEnergy Solutions Corp. and Allegheny Energy Supply Company, LLC v. PJM Interconnection, L.L.C.
E-8 | EL12-56-000 | Energy Spectrum, Inc. and Riverbay Corporation v. New York Independent System Operator, Inc.
E-9 | AC11-46-000 | Ameren Corporation.
E-10 | NJ08-2-001 | United States Department of Energy—Bonneville Power Administration.
E-11 | ER10-253-001, EL10-14-001 | Primary Power, LLC.
E-12 | EL10-52-001 | Central Transmission, LLC v. PJM Interconnection L.L.C.
E-13 | EL12-69-000 | Primary Power, LLC v. PJM Interconnection, L.L.C.
E-14 | EL12-24-000 | Pioneer Transmission, LLC v. Northern Indiana Public Service Company and Midwest Independent Transmission System Operator, Inc.
E-15 | EL12-28-000 | Xcel Energy Services Inc. and Northern States Power Company, a Wisconsin Corporation v. American Transmission Company, LLC.
E-16 | EL12-49-000 | Northern Indiana Public Service Company.
E-17 | EL12-55-000 | SIG Energy, LLLP v. California Independent System Operator Corporation.
E-18 | ER10-2061-000, ER10-2061-001, ER10-2061-002, ER10-2061-003, ER10-2061-004 | Tampa Electric Company.
E-19 | ER11-4244-001 | Midwest Independent Transmission System Operator, Inc.
MISCELLANEOUS
M-1 | RM12-13-000 | Continuity of Operations Plan.
GAS
G-1 | RM96-1-037 | Standards for Business Practices for Interstate Natural Gas Pipelines.
HYDRO
H-1 | P-13226-004 | Blue Heron Hydro LLC.
H-2 | P-2146-137 | Alabama Power Company.
H-3 | P-1881-076 | PPL Holtwood, LLC.
CERTIFICATES
C-1 | CP12-40-000 | Questar Pipeline Company.
C-2 | OMITTED |
C-3 | CP12-47-000 | Chipeta Processing LLC.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Dated: July 12, 2012.
Kimberly D. Bose,
Secretary.

[FR Doc. 2012-17415 Filed 7-13-12; 4:15 pm]

BILLING CODE 6717-01-P